DEPARTMENT OF TRANSPORTATION

National Highway Traffic Safety Administration

Announcing the Eighth Quarterly Meeting of the Crash Injury Research and Engineering Network (CIREN)

AGENCY: National Highway Traffic Safety Administration (NHTSA), DOT.

ACTION: Meeting announcement.

SUMMARY: This notice announces the Eighth Quarterly Meeting of members of the Crash Injury Research and Engineering Network. CIREN is a collaborative effort to conduct research on crashes and injuries at ten Level 1 Trauma Centers linked by a computer network. Researchers can review data and share expertise, which could lead to a better understanding of crash injury mechanisms and the design of safer vehicles.

DATES AND TIMES: The meeting is scheduled from 9 a.m. to 5 p.m. on Thursday, April 25, 2002.

ADDRESSES: The meeting will be held at the U.S. Department of Transportation headquarters, 400 Seventh Street, SW, Room 2230, Washington, D.C. 20590.

SUPPLEMENTARY INFORMATION: The CIREN System has been established and crash cases have been entered into the database by each Center. CIREN cases may be viewed from the NHTSA/CIREN web site at: http://www-nrd.nhtsa.dot.gov/include/bio_and_trauma/ciren-final.htm. NHTSA has held three Annual Conferences where CIREN research results were presented. Further information about the three previous CIREN conferences is also available through the NHTSA website. NHTSA held the first quarterly meeting on May 5, 2000, with a topic of lower extremity injuries in motor vehicle crashes; the second quarterly meeting on July 21, 2000, with a topic of side impact crashes; the third quarterly meeting on November 30, 2000, with a topic of thoracic injuries in crashes; the fourth quarterly meeting on March 16, 2001, with a topic of offset frontal collisions; the fifth quarterly meeting on June 21, 2001, on CIREN outreach efforts; the sixth quarterly meeting (held in Ann Arbor, Michigan) with a topic of injuries involving sport utility vehicles, and the seventh quarterly meeting on December 6, 2001, with a topic of Age Related Injuries (Elderly and Children). Presentations from these meetings are available through the NHTSA website.

NHTSA plans to continue holding quarterly meetings on a regular basis to disseminate CIREN information to interested parties. This is the eighth such meeting. The topic for this meeting is Brain and Traumatic Head Injuries. Subsequent meetings have tentatively been scheduled for August 2002 and December 2002. These meetings are in lieu of an annual CIREN conference.

Please be aware that this is a closed building. Attendees to this meeting must present photo identification, pass through the xray and magnetometer, and be escorted to the meeting room so please allow sufficient time to complete this process.

Should it be necessary to cancel the meeting due to inclement weather or to any other emergencies, a decision to cancel will be made as soon as possible and posted immediately on NHTSA's web site http://www.nhtsa.dot.gov/nhtsa/announce/meetings/. If you do not have access to the web site, you may call the contact listed below and leave your telephone or fax number. You will be called only if the meeting is postponed or canceled.

FOR FURTHER INFORMATION CONTACT: Mrs. Donna Stemski, Office of Human-Centered Research, 400 Seventh Street, SW, Room 6220, Washington, DC 20590, telephone: (202) 366-5662.

Issued on: March 21, 2002.
Raymond P. Owings,
Associate Administrator for Research and Development, National Highway Traffic Safety Administration.

[FR Doc. 02-7228 Filed 3-25-02; 8:45 am]

BILLING CODE 4910-59-P